LEGAL SERVICES CORPORATION

Sunshine Act Meeting: Board of Directors and Its Six Committees

FEDERAL REGISTER CITATION OF PREVIOUS ANNOUNCEMENT: 86 FR 18558.

PREVIOUSLY ANNOUNCED TIME AND DATE OF THE MEETING: Monday, April 19, 2021, commencing at 11:00 a.m., Eastern Daylight Time (EDT); and Tuesday, April 20, 2021, commencing at 1:00 p.m., Eastern Daylight Time (EDT).

CHANGES IN THE MEETING: For the meeting of the Governance and Performance Review Committee, beginning at 11:00 a.m. Eastern Daylight Time (EDT) on Monday, April 19, 2021, LSC is moving one item from the open session agenda to the agenda of the closed session. The item concerns the Committee's consideration of and action on a Resolution to appoint a new General Counsel and Vice President for Legal Affairs.

CONTACT PERSON FOR MORE INFORMATION: Yladrea Drummond, Special Assistant to the President for Board Affairs, Legal Services Corporation, 3333 K Street NW, Washington, DC 20007; (202) 295-1500; drummondy@lsc.gov.

Dated: April 12, 2021.
Stefanie Davis,
Senior Assistant General Counsel.

[FR Doc. 2021-07785 Filed 4-12-21; 4:15 pm]

BILLING CODE 7050-01-P